COMMITTEE FOR PURCHASE FROM PEOPLE WHO ARE BLIND OR SEVERELY DISABLED

Information Collection To Be Submitted to the Office of Management and Budget (OMB) for Approval Under the Paperwork Reduction Act; Individual Eligibility Evaluation

AGENCY: Committee for Purchase from People Who Are Blind or Severely Disabled.

ACTION: Notice; request for comments.

SUMMARY: The Committee for Purchase from People Who Are Blind or Severely Disabled (Committee) will submit the collection of information listed below to the Office of Management and Budget (OMB) for review and approval under the provisions of the Paperwork Reduction Act. This notice solicits comments on this collection of information.

DATES: Submit your written comments on the information collection on or before July 3, 2012.

ADDRESSES: Submit your comments on the requirement to Lou Bartalot, Director Compliance, Committee for Purchase from People Who Are Blind or Severely Disabled, 1421 Jefferson Davis Highway, Jefferson Plaza 2, Suite 10800, Arlington, VA, 22202-3259; fax (703) 603-0655; or email rulecomments@abilityone.gov.

FOR FURTHER INFORMATION CONTACT: To request a copy of the applicable form or explanatory material, contact Lou Bartalot or Amy Jensen at information in above paragraph.

SUPPLEMENTARY INFORMATION: The Office of Management and Budget (OMB) regulations at 5 CFR part 1320, which implement provisions of the Paperwork Reduction Act of 1995 (44 U.S.C. 3501 et seq.), require that interested members of the public and affected agencies have an opportunity to comment on information collection and recordkeeping activities (see 5 CFR 1320.8(d)). The Committee plans to submit a request to OMB that the initial and annual evaluations of competitive employability required by the Committee's regulations (41 CFR 51-4.3) be done on a standardized form. The Committee is requesting a 3-year term of approval for this recordkeeping activity.

Federal agencies may not conduct or sponsor, and a person is not required to respond to, a collection of information unless it displays a currently valid OMB control number.

The JWOD Act of 1971 (41 U.S.C. Chapter 85) is the authorizing legislation for the AbilityOne Program. The AbilityOne Program creates jobs and training opportunities for people who are blind or who have other severe disabilities. Its primary means of doing so is by requiring Government agencies to purchase selected products and services from nonprofit agencies employing such individuals. The AbilityOne Program is administered by the Committee. Two national, independent organizations, National Industries for the Blind (NIB) and NISH, help State and private nonprofit agencies participate in the AbilityOne Program.

The implementing regulations for the JWOD Act, which are located at 41 CFR Chapter 51, provide the requirements, procedures, and standards for the AbilityOne Program. Section 51-4.3 of the regulations sets forth the standards that a nonprofit agency must meet to maintain qualification for participation in the AbilityOne Program. Under this section of the regulations, a nonprofit agency that wants to continue to participate in the AbilityOne Program must conduct evaluations on each individual performing direct labor to determine their capability to perform competitive employment at least annually.

Overview of This Information Collection

This recordkeeping request seeks approval for the Committee to require the use of a standardized, Committee developed, form to record the evaluation beginning in January 2013. The development of the evaluation form is the result of consultation with multiple nonprofit agencies already participating in the AbilityOne Program and it is at the request of a number of these agencies that the Committee is seeking its mandatory use.

Type of Information Collection: New collection.

Title: AbilityOne Program Individual Eligibility Evaluation.

OMB Control Number: 3037-0011.

Form Number: Committee Form IEE.

Description of Respondents: Nonprofit agencies serving people who are blind or severely disabled that participate in the AbilityOne Program.

Annual Number of Respondents: About 610 nonprofit agencies serving people who are blind or severely disabled that participates in the AbilityOne Program.

Estimated Total Annual Burden Hours: Burden for conducting the evaluations is included in the Committee's recordkeeping requirement under OMB Control number 3037-005. It is estimated that requiring the use of a standardized form will not add to the recordkeeping burden once training is completed and the form adopted. The estimated burden to accomplish the training is estimated at 2 hours per agency. Total burden is 1220 hours.

We invite comments concerning this renewal on: (1) Whether the collection of information is necessary for the proper performance of our agency's functions, including whether the information will have practical utility; (2) the accuracy of our estimate of the burden of the collection of information; (3) ways to enhance the quality, utility, and clarity of the information to be collected; and (4) ways to minimize the burden of the collection of information on respondents.

Barry S. Lineback,
Director, Business Operations.

[FR Doc. 2012-10732 Filed 5-3-12; 8:45 am]

BILLING CODE 6353-01-P